DEPARTMENT OF LABOR

Employment and Training Administration

[TA-W-62,052]

Freescale Semiconductor, Inc., New Product Introduction (NPI), Compound Semiconductor 1 (CS1) Factory, Tempe, AZ; Notice of Affirmative Determination Regarding Application for Reconsideration

On December 12, 2007, the Department of Labor (Department) received a request for administrative reconsideration of the Department's Notice of Negative Determination Regarding Eligibility to Apply for Worker Adjustment Assistance, applicable to workers and former workers of the subject firm. The negative determination was issued on November 13, 2007. The Department's Notice of determination was published in the Federal Register on December 10, 2007 (72 FR 69711). Subject workers are engaged in activities related to the production of gallium arsenide (GaAs) semiconductors for the purposes of the design and development of new automotive and cellular technologies.

The determination was based on the Department's findings that the group eligibility requirements under section 222(a) of the Trade Act of 1974, as amended, was not met.

In the request for reconsideration, the workers alleged that the subject workers are engaged in activities related to the production of not only GaAs semiconductors but also related to the production of non-GaAs semiconductors.

The Department has carefully reviewed the workers' request for reconsideration and has determined that the Department will conduct further investigation regarding the production of both GaAs semiconductors and non-GaAs semiconductors.

Conclusion

After careful review of the application, I conclude that the claim is of sufficient weight to justify reconsideration of the U.S. Department of Labor's prior decision. The application is, therefore, granted.

Signed at Washington, DC, this 3rd day of January 2008.
Elliott S. Kushner,
Certifying Officer, Division of Trade Adjustment Assistance.

[FR Doc. E8-258 Filed 1-9-08; 8:45 am]

BILLING CODE 4510-FN-P